COMMISSION ON CIVIL RIGHTS

Sunshine Act Meeting Notice

AGENCY: United States Commission on Civil Rights.

ACTION: Notice of commission business meeting.

DATES: Friday, August 18, 2017, at 10:00 a.m. EST.

ADDRESSES: National Place Building, 1331 Pennsylvania Ave. NW., 11th Floor, Suite 1150, Washington, DC 20245 (Entrance on F Street NW.).

FOR FURTHER INFORMATION CONTACT: Brian Walch, phone: (202) 376-8371; TTY: (202) 376-8116; email: publicaffairs@usccr.gov.

SUPPLEMENTARY INFORMATION: This business meeting is open to the public. There will also be a call-in line for individuals who desire to listen to the presentations: (888) 329-8893; Conference ID 842-6586.

Deaf or hard of hearing persons who will attend the briefing and require the services of a sign language interpreter should contact Pamela Dunston at (202) 376-8105 or at signlanguage@usccr.gov at least three business days before the scheduled date of the meeting.

Meeting Agenda

I. Approval of Agenda

II. Business Meeting

A. Headquarters Reports and Program Planning

• Discussion and Vote on Discovery Plan, Outline, Timeline, and Briefing Date and Location for FY 2018 Statutory Enforcement Report on Voting Rights

• Discussion and Vote on Briefing Schedule for FY 2018 Projects (School Discipline and Hate Crimes)

• Discussion and Vote on LGBT Employment Discrimination Report

B. State Advisory Committees

• Vote on appointments to the Utah State Advisory Committee

• Vote on appointments to the Hawaii State Advisory Committee

• Vote on appointments to the Mississippi State Advisory Committee

• Vote on appointments to the Missouri State Advisory Committee

C. Management and Operations

• Staff Director's Report

D. Presentation by California Advisory Committee member Nancy Eisenhart on the Committee's recent report, Voting Integrity in California

E. Presentation by Wisconsin Advisory Committee Chair Naheed Bleecker on the Committee's recent report, Hate Crimes and Civil Rights in Wisconsin

F. [To begin at 11 a.m. EST] Presentation on History of Voting Rights

a. Alexander Keyssar, Matthew W. Stirling, Jr., Professor of History and Social Policy at the Harvard Kennedy School of Government

b. Mary Ellen Curtin, Associate Professor of History at American University

III. Adjourn Meeting.

Dated: August 7, 2017.
Brian Walch,
Director, Communications and Public Engagement.

[FR Doc. 2017-16917 Filed 8-7-17; 4:15 pm]

BILLING CODE 6335-01-P